INTERNATIONAL TRADE COMMISSION

[Investigations Nos. 731-TA-413-415 and 419 (Review)]

Certain Industrial Belts From Germany, Italy, Japan, and Singapore

AGENCY: United States International Trade Commission.

ACTION: Cancellation of the hearing of full five-year reviews concerning the antidumping duty orders on certain industrial belts from Germany, Italy, Japan, and Singapore.

EFFECTIVE DATE: June 21, 2000.

FOR FURTHER INFORMATION CONTACT: Joanna Bonarriva (202-708-4083) Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION:

Background

On February 10, 2000 (65 FR 6627), the Commission published a notice in the Federal Register scheduling full five-year reviews concerning the antidumping duty orders on certain industrial belts from Germany, Italy, Japan, and Singapore. The schedule provided for a public hearing on June 27, 2000. Requests to appear at the hearing were filed with the Commission on behalf of Mitsuboshi Belting Corp. and on behalf of Bando Chemical Industries, Ltd. and Bando American, Inc. Subsequently, each of the parties requesting to appear at the hearing withdrew its request. Since there are no current requests by interested parties to appear at a public hearing, the Commission determined to cancel the public hearing on certain industrial belts from Germany, Italy, Japan, and Singapore. The Commission unanimously determined that no earlier announcement of this cancellation was possible.

For further information concerning these reviews, see the Commission's notice cited above and the Commission's Rules of Practice and Procedure, part 201, subparts A through E (19 CFR part 201), and part 207, subparts A and F (19 CFR part 207).

Authority: These reviews are being conducted under authority of title VII of the Tariff Act of 1930; this notice is published pursuant to sections 201.35 and 207.62 of the Commission's rules.

Dated: June 21, 2000.
By order of the Commission.
Donna R. Koehnke,
Secretary.

[FR Doc. 00-16202 Filed 6-26-00; 8:45 am]

BILLING CODE 7020-02-P